DEPARTMENT OF COMMERCE

National Oceanic and Atmospheric Administration

[RTID 0648-XA130]

Mid-Atlantic Fishery Management Council (MAFMC); Public Meeting

AGENCY: National Marine Fisheries Service (NMFS), National Oceanic and Atmospheric Administration (NOAA), Commerce.

ACTION: Notice of initiation of scoping process; notice of public scoping meetings; request for comments.

SUMMARY: The Mid-Atlantic Fishery Management Council (Council) will hold two public scoping meetings via webinar and a written comment period to solicit public comments on a developing management action to consider potential changes to the allocation of the black sea bass commercial quota among the states of Maine through North Carolina.

DATES: The webinar scoping hearings will be held on Monday May 11, 2020, from 2 p.m. to 3:30 p.m., EDT and on Thursday, May 14, 2020, from 6 p.m. to 7:30 p.m., EDT. Written comments must be received on or before 11:59 p.m. EDT, May 31, 2020. See SUPPLEMENTARY INFORMATION for more details.

ADDRESSES: Both webinar hearings may be accessed at: http://mafmc.adobeconnect.com/bsb-com-allocation-scoping/. Webinar audio will also be accessible by phone by dialing 1-800-832-0736 and entering room number 5068871. A scoping document is available at: http://www.mafmc.org/actions/bsb-commercial-allocation. Copies of the scoping document are also available by request from Dr. Chris Moore, Executive Director, Mid-Atlantic Fishery Management Council, 800 N State Street, Suite 201, Dover, DE 19901; telephone: (302) 674-2331.

Public comments: Written comments may be sent by any of the following methods:

• Email to: jbeaty@mafmc.org; Include “black sea bass commercial allocation amendment” in the subject line.

• Via webform at: http://www.mafmc.org/comments/bsb-com-allocation-amendment.

• Mail to: Dr. Christopher M. Moore, Executive Director, Mid-Atlantic Fishery Management Council, 800 N. State Street, Suite 201, Dover, DE 19901. Mark the outside of the envelope “black sea bass commercial allocation amendment.”

• Fax to: (302) 674-5399.

FOR FURTHER INFORMATION CONTACT: Christopher M. Moore, Ph.D., Executive Director, Mid-Atlantic Fishery Management Council, telephone: (302) 526-5255.

SUPPLEMENTARY INFORMATION: The Mid-Atlantic Fishery Management Council and the Atlantic States Marine Fisheries Commission (Commission) are developing a joint action to consider adjusting the allocations of the black sea bass commercial quota among states. These allocations were loosely based on landings data from 1980-2001. They were first implemented in 2003 and have not been modified since that time. They are currently included only in the Commission's fishery management plan and are not jointly managed with the Council. This joint action will consider whether modifications to these allocations should be made to account for changes in black sea bass distribution and abundance over time, as well as other considerations. It will also consider whether the allocations should be added to the Council's Fishery Management Plan and managed jointly by the Council and Commission.

Additional information on this action is available at: http://www.mafmc.org/actions/bsb-commercial-allocation.

Special Accommodations

These meetings are physically accessible to people with disabilities. Requests for sign language interpretation or other auxiliary aids should be directed to M. Jan Saunders at the Mid-Atlantic Council office, (302) 526-5251, at least 5 days prior to the meeting date.

Authority: 16 U.S.C. 1801 et seq.

Dated: April 15, 2020.
Tracey L. Thompson,
Acting Deputy Director, Office of Sustainable Fisheries, National Marine Fisheries Service.

[FR Doc. 2020-08265 Filed 4-17-20; 8:45 am]

BILLING CODE 3510-22-P